DEPARTMENT OF DEFENSE

Department of the Navy

Notice of Public Hearing for the Draft Environmental Impact Statement for the Proposed Homeporting of Additional Surface Ships at Naval Station Mayport, Florida

AGENCY: Department of the Navy, DoD.

ACTION: Notice.

SUMMARY: Pursuant to section 102(2)(c) of the National Environmental Policy Act (NEPA) of 1969, as implemented by the Council on Environmental Quality Regulations (40 Code of Federal Regulations Parts 1500-1508 the U.S. Department of the Navy (Navy) has prepared and filed with the U.S. Environmental Protection Agency (EPA) a Draft Environmental Impact Statement (DEIS) on March 28, 2008, which evaluates the potential environmental consequences of homeporting additional surface ships at Naval Station (NAVSTA) Mayport, Florida. A Notice of Intent for this DEIS was published in the Federal Register on November 14, 2006 (FR14NO06-25).

A public hearing will be held to provide information and receive oral and written comments on the DEIS. A preferred alternative has not been selected or identified in the DEIS. The Navy seeks comments from the public or interested parties regarding the sufficiency of the DEIS and the choice of a preferred alternative. Federal, state, and local agencies and interested individuals are invited to be present or represented at the hearing.

Date and Address: One public hearing will be held. The hearing will be preceded by an open house session to allow interested individuals to review information presented in the DEIS DON representatives will be available during the open house session to provide clarification as necessary related to the DEIS. The open house session will occur from 4:30 p.m. to 6:30 p.m. followed by the formal public hearing from 6:30 p.m. to 8:30 p.m. The public hearing is scheduled for the following date and location: Wednesday, April 16, 2008 at the Florida Community College, Deerwood Center, B1204 9911 Old Baymeadows Road, Jacksonville, FL 32256.

FOR FURTHER INFORMATION CONTACT: Mr. Will Sloger, Naval Facilities Engineering Command Southeast, P.O. Box 190010, North Charleston, South Carolina 29419-9010; telephone: 843-820-5797.

SUPPLEMENTARY INFORMATION: The DON has prepared and filed with the EPA the DEIS for homeporting additional surface ships at Naval Station (NAVSTA) Mayport, Florida, in accordance with requirements of the National Environmental Policy Act (NEPA) of 1969 (42 U.S.C. sections 4321-4345) and its implementing regulations (40 CFR Parts 1500-1508). A Notice of Intent for this DEIS was published in the Federal Register on November 14, 2006 (FR14NO06-25). The DON is lead agency for the proposed action with the U.S. Army Corps of Engineers and U.S. Environmental Protection Agency serving as cooperating agencies.

The purpose of the proposed action is to ensure effective support of Fleet operational requirements through efficient use of waterfront and shore side facilities at NAVSTA Mayport. The Navy needs to utilize the available facilities at NAVSTA Mayport, both pierside and shoreside, in an effective and efficient manner, thereby minimizing new construction.

This DEIS reviews and assesses 12 action alternatives and the No Action alternative. The 12 action alternatives incorporate various types and numbers of ships including those types currently homeported at NAVSTA Mayport: Cruisers, destroyers, and frigates, as well as additional types of ships, including amphibious assault ships, amphibious transport dock ships, dock landing ships, and a nuclear powered aircraft carrier.

Depending on the action alternative, the proposed action may include dredging and disposal of dredged material, maintenance facilities improvements, utilities upgrades, wharf improvements, personnel support improvements, parking facilities and traffic improvements, or construction of nuclear propulsion plant maintenance facilities.

The EIS addresses any potential environmental impacts associated with: Earth resources, land use, water resources, air quality, noise, biological resources, cultural resources, traffic, socioeconomics, general services, utilities, and environmental health and safety. The analyses include direct and indirect impacts, and account for cumulative impacts from other foreseen Federal activities.

The proposed action includes only required activities necessary to prepare and operate NAVSTA Mayport for the proposed homeporting and does not include actions at other Navy bases. Several alternatives could be implemented as early as 2009; others would not be fully implemented until 2014. A preferred alternative has not been selected or identified in the DEIS. The Navy seeks comments from the public or interested parties regarding the sufficiency of the DEIS and the choice of a preferred alternative.

The Navy conducted the scoping process to identify community concerns and local issues that should be addressed in the EIS. Federal, state, and local agencies and interested parties provided written comments to the Navy and identified specific issues or topics of environmental concern that should be addressed in the EIS. The Navy considered these comments in determining the scope of the EIS.

The Draft EIS has been distributed to various Federal, State, and local agencies, as well as other interested individuals and organizations. In addition, copies of the Draft EIS have been distributed to the following libraries for public review:

1. Beaches Library, 600 3rd Street, Neptune Beach, FL 32266;

2. Pablo Creek Library, 13295 Beach Blvd. Jacksonville, FL 32246;

3. Regency Square Library, 9900 Regency Square Blvd, Jacksonville, FL 32225;

4. Main Library, 303 N. Laura Street, Jacksonville, FL 32202;

5. Public Library 25 N. 4th Street, Fernandina Beach, FL 32034.

An electronic copy of the Draft EIS is also available for public viewing at: http://www.MayportHomeportingEIS.com. Requests for single copies of the DEIS (printed or on CD-ROM) or its Executive Summary may be made online at: http://www.MayportHomeportingEIS.com or by writing to the address at the end of this notice.

Federal, State, and local agencies, as well as interested parties are invited and encouraged to be present or represented at the hearings. Oral statements will be heard and transcribed by a stenographer; however, to ensure the accuracy of the record, all statements should be submitted in writing. All statements, both oral and written, will become part of the public record on the Draft EIS and will be responded to in the Final EIS. Equal weight will be given to both oral and written statements.

In the interest of available time, and to ensure all who wish to give an oral statement have the opportunity to do so, each speaker's comments will be limited to three (3) minutes. If a longer statement is to be presented, it should be summarized at the public hearing and the full text submitted in writing either at the hearing, or mailed to Commander, Southern Division Naval Facilities Engineering Command, Attn: Mr. Will Sloger (Code ES12), P.O. Box 190010, North Charleston, South Carolina 29419-9010, telephone: 843-820-5797.

All written comments postmarked by May 12, 2008, will become a part of the official public record and will be responded to in the Final EIS.

Dated: March 25, 2008.
T.M. Cruz,
Lieutenant, Judge Advocate General's Corps, U.S. Navy, Federal Register Liaison Officer.

[FR Doc. E8-6446 Filed 3-27-08; 8:45 am]

BILLING CODE 3810-FF-P